DEPARTMENT OF EDUCATION

[CFDA No. 84.215V—State Educational Agencies; CFDA No. 84.215S—Local Educational Agencies]

Office of Educational Research and Improvement; Fund for the Improvement of Education (FIE) Program—Partnerships in Character Education; Notice Inviting Applications for New Awards for Fiscal Year (FY) 2002

Purpose of Program: The purpose of this program is to provide grants to eligible entities to assist them in designing and implementing character education programs that teach students any of the following elements of character: caring, civic virtue and citizenship, justice and fairness, respect, responsibility, trustworthiness, giving, or any other elements deemed appropriate by the eligible entity, having taken into consideration the views of parents and students. The character education programs supported must be programs that can be integrated into classroom instruction, are consistent with State academic content standards, and can be carried out in conjunction with other educational reform efforts.

Eligible Applicants: An eligible applicant under the 84.215V competition is:

(a) A State educational agency (SEA) in partnership with one or more local educational agencies (LEAs); or

(b) An SEA in partnership with one or more (LEAs) and nonprofit organizations or entities, including an institution of higher education.

An eligible applicant under the 84.215S competition is:

(a) An LEA or consortium of LEAs; or

(b) An LEA or LEAs in partnership with one or more nonprofit organizations or entities, including an institution of higher education.

In making selections for funding, the Secretary will ensure, to the extent practicable, that the projects are equitably distributed among the geographic regions of the United States, and among urban, suburban and rural areas.

Applications Available: May 23, 2002.

The application package for this competition is available on line at: http://ed.gov/GrantApps/. At this site, you may download and print a paper copy of the application package. Using these paper forms, you may submit a paper copy of your application to the Department.

If you want to submit an application electronically, please refer to the instructions, “Pilot Project for Electronic Submission of Applications” later on in this notice. You must use the “e-APPLICATION” process described in these instructions to submit an application electronically.

Deadline for Transmittal of Applications: July 11, 2002.

Deadline for Intergovernmental Review: September 9, 2002.

Estimated Available Funds: $16,000,000.

Estimated Range of Awards: $100,000—$500,000 per year.

Estimated Average Size of Awards: The size of an award will be commensurate with the scope of the activities to be carried out.

Minimum Award: We will reject any application from an SEA that proposes a total budget for the entire project period that is less than $500,000. There is no such restriction on applications from LEAs.

Estimated Number of Awards: 40 to 45.

Note: The Department is not bound by any estimates in this notice.

Project Period: Up to 48 months, of which no more than 12 months may be used for planning and program design.

Budget Period: 12 months.

Page Limit: The application narrative (Part III of the application) is where you, the applicant, address the selection criteria that reviewers use to evaluate your application. It is strongly suggested that you limit Part III to the equivalent of no more than 25 pages using the following standards:

• A page is 8.5″ × 11,″ on one side only, with 1″ margins at the top, bottom and both sides.

• Double space (no more than three lines per vertical inch) all text in the application narrative.

• Use a font that is either 12 point or larger or not smaller than 10 pitch (characters per inch).

Applicable Regulations: (a) The Education Department General Administrative Regulations (EDGAR) in 34 CFR parts 74, 75, 77, 80, 81, 82, 85, 86, 97, 98 and 99.

SUPPLEMENTARY INFORMATION:

Background

Eligible entities awarded grants under this program may contract with outside sources, including institutions of higher education and private and nonprofit organizations, for the purposes of: (1) Evaluating the program for which the assistance is made available; (2) measuring the integration of such program into the curriculum and teaching methods of schools where the program is carried out; and (3) measuring the success of the program in fostering the elements of character selected by the recipient.

Entities receiving grants may also contract with the same types of outside sources, for assistance in: (1) Developing secular curricula, materials, teacher training, and other activities related to character education; and (2) integrating secular character education into the curricula and teaching methods of schools where the program is carried out.

An SEA receiving a grant may use no more than 3 percent of the grant funds, each year, for administrative purposes. The remainder may be used for: (1) Collaborative initiatives with and between LEAs and schools; (2) the preparation or purchase of materials, and teacher training; (3) providing assistance to LEAs, schools, or institutions of higher education; and (4) technical assistance and evaluation.

Each application for a grant under this program must include information that: (1) Demonstrates that the program for which the grant is sought has clear objectives that are based on scientifically based research; (2) describes any partnerships or collaborative efforts among the organizations and entities comprising the eligible entity; (3) describes the activities that will be carried out with the grant funds and how such activities will meet the project objectives, including: (a) How parents, students, students with disabilities (including those with mental or physical disabilities), and other members of the community, including members of private and nonprofit organizations, will be involved in the design and implementation of the program and how the eligible entity will work with the larger community to increase the reach and promise of the program; (b) curriculum and instructional practices that will be used or developed; and (c) methods of teacher training and parent education that will be used or developed; (4) describes how the program for which the grant is sought will be linked to other efforts to improve academic achievement, including: (a) Broader educational reforms that are being instituted by the eligible entity or its partners; and (b) State academic content standards; and (5) describes how the eligible entity will evaluate the success of its program based on the project objectives.

In addition, any application from an SEA must also include information that describes how the SEA: (1) Will provide technical and professional assistance to its LEA partners in the development and implementation of character education programs; and (2) will assist other interested LEAs that are not members of the original partnership in designing and establishing character education programs.

Each eligible entity receiving a grant must provide, to the extent feasible and appropriate, for the participation in the funded programs and activities of students and teachers in private elementary and secondary schools.

Factors that may be considered in evaluating the success of programs funded include the following: Discipline issues, student academic achievement, participation in extracurricular activities, parental and community involvement, faculty and administration involvement, student and staff morale, and overall improvements in school climate for all students, including students with disabilities.

Selection Criteria: In selecting eligible entities to receive grants, the Secretary will use a peer review process that includes the participation of experts in the field of character education and development. Peer reviewers will use the criteria listed below in evaluating applications. The criteria will receive the points indicated.

(1) The extent to which project objectives are significant, clearly identified, measurable, and likely to be achieved. (20 points)

(2) The extent to which the applicant utilizes scientifically based research to select character education program components that are likely to foster character in students and achieve project objectives. (20 points)

(3) The extent to which the character education program activities are integrated into teacher professional development, curricula, materials, and classroom instruction. (20 points)

(4) The extent and ongoing nature of the involvement of students, parents, and community, such as faith-based organizations, in the design, implementation, and evaluation of the project. (20 points)

(5) The extent to which the factors to be considered in evaluating the success of the project will be clearly identified and the quality of the plan for evaluating the project. (20 points)

Priority

This competition focuses on projects designed to meet the following priority. Under 34 CFR 75.105(c)(2)(i), applications will receive up to 20 additional points depending on how well they meet the priority. These points are in addition to any points the application earns under the selection criteria.

Competitive Preference Priority

The project is designed to determine whether the character education program implemented produces meaningful effects on students. In order to do this, the project preferably employs an experimental design with random assignment. If random assignment is not feasible, the project may employ a quasi-experimental design with carefully matched comparison conditions. For experimental designs, random assignment to the character education program being evaluated versus one or more comparison conditions may occur at the level of students, or classrooms, or schools. Alternatively, in a quasi-experimental design, schools or students or classrooms that are receiving the character education program are matched with comparable schools or students or classrooms that are not receiving a character education program. Data from reliable and valid measures of the elements of character that the character education program intends to teach and any other characteristics of school climate that the program intends to influence should be collected before and after participation in the character education program or the comparison condition.

Waiver of Proposed Rulemaking

Under the Administrative Procedure Act (5 U.S.C. 553) the Department generally offers interested parties the opportunity to comment on selection criteria, competitive preference priority, and special application requirements. Section 437(d)(1) of the General Education Provisions Act, however, exempts from this requirement rules that apply to the first competition under a new or substantially revised program authority. This is the first competition under the Fund for the Improvement of Education: Character Education Program, which was substantially revised by the No Child Left Behind Act of 2001. These selection criteria, competitive preference priority, and application requirements will apply to the FY 2002 grant competition only.

Pilot Project for Electronic Submission of Applications

In FY 2002, the U.S. Department of Education is continuing to expand its pilot project of electronic submission of applications to include additional formula grant programs and additional discretionary grant competitions. The Fund for the Improvement of Education (FIE): Partnerships in Character Education Program (84.215V for SEAs and 84.215S for LEAs) is one of the programs included in the pilot project. If you are an applicant under either the SEA competition or the LEA competition for the FIE: Partnerships in Character Education Program, you may submit your application to the Department in either electronic or paper format.

The pilot project involves the use of the Electronic Grant Application System (e-APPLICATION, formerly e-GAPS) portion of the Grant Administration and Payment System (GAPS). The Department requests your participation in this pilot project. We shall continue to evaluate its success and solicit suggestions for improvement.

If you participate in this e-APPLICATION pilot, please note the following:

• Your participation is voluntary but strongly encouraged.

• You will not receive any additional point value or penalty because you submit a grant application in electronic or paper format.

• On the deadline date, the deadline time for transmitting applications is 4:30 p.m. Washington, DC Time.

• If you wait until the deadline date to submit your application electronically and you are unable to access the e-Application system, you must contact the Help Desk by 4:30 p.m. Washington DC time on the deadline date.

• Keep in mind that e-Application is not operational 24 hours a day every day of the week. Click on Hours of Web Site Operation for specific hours of access during the week.

• You will have access to the e-Application Help Desk for technical support: 1-888-336-8930 (TTY: 1-866-697-2696, local 202-401-8363). The Help Desk hours of operation are limited to: 8 a.m.-6 p.m. Washington, DC time Monday-Friday.

• If you submit your application electronically by the transmittal date but also wish to submit a paper copy of your application, then you must mail the paper copy of the application on or before the deadline date to: U.S. Department of Education, Application Control Center, Attention: CFDA # 84.305G, 7th and D Streets, SW., Room 3671, Regional Office Building 3, Washington, DC 20202-4725.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the FIE: Partnerships in Character Education Program: 84.215V for SEAs or 84.215S for LEAs at: http://e-grants.ed.gov.

We have included additional information about the e-APPLICATION pilot project (see Parity Guidelines between Paper and Electronic Applications) in the application package.

FOR APPLICATIONS AND FURTHER INFORMATION CONTACT: Beverly A. Farrar, U.S. Department of Education, 555 New Jersey Avenue, NW., room 502J, Washington, DC 20208-5645. FAX: (202) 219-2053 or via the Internet: beverly.a.farrar@ed.gov. If you use a telecommunications device for the deaf (TDD), you may call the Federal Information Relay Service (FIRS) at 1-800-877-8339.

Individuals with disabilities may obtain this document in an alternative format, e.g., Braille, large print, audiotape, or computer diskette) on request to the program contact person listed under FOR APPLICATIONS AND FURTHER INFORMATION CONTACT.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.access/gpo.gov/nara/index.html.

Program Authority: 20 U.S.C. 7247.

Dated: May 16, 2002.
Grover J. Whitehurst,
Assistant Secretary for Educational Research and Improvement.

[FR Doc. 02-12693 Filed 5-20-02; 8:45 am]

BILLING CODE 4000-01-P